DEPARTMENT OF ENERGY

Federal Energy Regulatory Commission

Combined Notice of Filings #1

Take notice that the Commission received the following Complaints and Compliance filings in EL Dockets:

Docket Numbers: EL24-73-000.

Applicants: Welcome Solar, LLC, Welcome Solar II, LLC, and Welcome Solar III, LLC v. PJM Interconnection, L.L.C.

Description: Complaint of Welcome Solar, LLC, Welcome Solar II, LLC, and Welcome Solar III, LLC v. PJM Interconnection, L.L.C.

Filed Date: 2/14/24.

Accession Number: 20240214-5128.

Comment Date: 5 p.m. ET 2/28/24.

Docket Numbers: EL24-74-000.

Applicants: Municipal Energy Agency of Nebraska and the Colorado Cities of Aspen, et al. v. Public Service Company of Colorado.

Description: Complaint of Municipal Energy Agency of Nebraska and the Colorado Cities of Aspen, et al. v. Public Service Company of Colorado.

Filed Date: 2/16/24.

Accession Number: 20240216-5047.

Comment Date: 5 p.m. ET 3/7/24.

Take notice that the Commission received the following electric rate filings:

Docket Numbers: ER23-1144-001.

Applicants: Southwestern Public Service Company.

Description: Southwestern Public Service Company submits tariff filing per 35.19a(b): Refund Report_Attachment 4 Partial Requirements Agreement to be effective N/A.

Filed Date: 2/15/24.

Accession Number: 20240215-5270.

Comment Date: 5 p.m. ET 3/7/24.

Docket Numbers: ER23-2686-001.

Applicants: California Independent System Operator Corporation.

Description: Compliance filing: 2024-02-16 EDAM/DAME Tariff Amendment Compliance Filing to be effective 12/21/2023.

Filed Date: 2/16/24.

Accession Number: 20240216-5123.

Comment Date: 5 p.m. ET 3/8/24.

Docket Numbers: ER24-99-002.

Applicants: PJM Interconnection, L.L.C.

Description: Compliance filing: Compliance Filing Related to Capacity Modeling Enhancements ER24-99 to be effective 12/12/2023.

Filed Date: 2/16/24.

Accession Number: 20240216-5106.

Comment Date: 5 p.m. ET 3/8/24.

Docket Numbers: ER24-1259-000.

Applicants: Occidental Power Marketing, L.P.

Description: 205(d) Rate Filing: Occidental Power Marketing Amended Tariff Filing to be effective 2/16/2024.

Filed Date: 2/15/24.

Accession Number: 20240215-5238.

Comment Date: 5 p.m. ET 3/7/24.

Docket Numbers: ER24-1260-000.

Applicants: Avista Corporation.

Description: 205(d) Rate Filing: Avista Corp Rate Schedule No. 59 to be effective 2/12/2024.

Filed Date: 2/15/24.

Accession Number: 20240215-5241.

Comment Date: 5 p.m. ET 3/7/24.

Docket Numbers: ER24-1261-000.

Applicants: Occidental Power Services, Inc.

Description: 205(d) Rate Filing: Occidental Power Services Inc. Amended Tariff Filing to be effective 2/16/2024.

Filed Date: 2/15/24.

Accession Number: 20240215-5243.

Comment Date: 5 p.m. ET 3/7/24.

Docket Numbers: ER24-1262-000.

Applicants: Occidental Chemical Corporation.

Description: 205(d) Rate Filing: Occidental Chemical Corporation Amended Tariff Filing to be effective 2/16/2024.

Filed Date: 2/15/24.

Accession Number: 20240215-5247.

Comment Date: 5 p.m. ET 3/7/24.

Docket Numbers: ER24-1263-000.

Applicants: OTCF, LLC.

Description: 205(d) Rate Filing: OTCF, LLC Amended Tariff Changes to be effective 2/16/2024.

Filed Date: 2/15/24.

Accession Number: 20240215-5248.

Comment Date: 5 p.m. ET 3/7/24.

Docket Numbers: ER24-1264-000.

Applicants: Tri-State Generation and Transmission Association, Inc.

Description: Tariff Amendment: Notice of Cancellation of Service Agreement FERC No. 886 to be effective 4/15/2024.

Filed Date: 2/15/24.

Accession Number: 20240215-5250.

Comment Date: 5 p.m. ET 3/7/24.

Docket Numbers: ER24-1265-000.

Applicants: Southwestern Public Service Company.

Description: Tariff Amendment: SPS-WILD-E&P Agrmt-697-0.1.0 NOC to be effective 2/16/2024.

Filed Date: 2/16/24.

Accession Number: 20240216-5000.

Comment Date: 5 p.m. ET 3/8/24.

Docket Numbers: ER24-1266-000.

Applicants: Rush Solar Project II, LLC.

Description: Rush Solar Project II, LLC submits Request of for Prospective Tariff Waiver and Expedited Action.

Filed Date: 2/15/24.

Accession Number: 20240215-5290.

Comment Date: 5 p.m. ET 3/7/24.

Docket Numbers: ER24-1267-000.

Applicants: Public Service Company of Colorado.

Description: 205(d) Rate Filing: 2024-02-16—Removal Of Texas HB 4150 from SPS Trans Formula to be effective 1/1/2024.

Filed Date: 2/16/24.

Accession Number: 20240216-5062.

Comment Date: 5 p.m. ET 3/8/24.

Docket Numbers: ER24-1268-000.

Applicants: The Dayton Power and Light Company, PJM Interconnection, L.L.C.

Description: 205(d) Rate Filing: The Dayton Power and Light Company submits tariff filing per 35.13(a)(2)(iii: AES Ohio submits revisions to Attachment H-15A to be effective 4/17/2024.

Filed Date: 2/16/24.

Accession Number: 20240216-5072.

Comment Date: 5 p.m. ET 3/8/24.

Docket Numbers: ER24-1269-000.

Applicants: PacifiCorp.

Description: 205(d) Rate Filing: Certificate of Concurrence to NWE 3rd Amnd and Rstd Interconnection Agmt (AMPS) to be effective 1/12/2024.

Filed Date: 2/16/24.

Accession Number: 20240216-5107.

Comment Date: 5 p.m. ET 3/8/24.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 16, 2024.
Debbie-Anne A. Reese,
Acting Secretary.

[FR Doc. 2024-03703 Filed 2-22-24; 8:45 am]

BILLING CODE 6717-01-P